DEPARTMENT OF HEALTH AND HUMAN SERVICES

Centers for Disease Control and Prevention

[60Day-21-1169; Docket No. CDC-2021-0015]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a reinstatement of a currently approved data collection titled “Development of CDC's Let's Stop HIV Together Social Marketing Campaign for Consumers”. The purpose of this data collection is to inform the development of messages, concepts, and materials for CDC's Let's Stop HIV Together social marketing campaign for the general public and subpopulations at increased risk for HIV acquisition or transmission in support of the U.S. Department of Health and Human Services' Ending the HIV Epidemic.

DATES: CDC must receive written comments on or before May 11, 2021.

ADDRESSES: You may submit comments, identified by Docket No. CDC-2021-0015 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Development of CDC's Let's Stop HIV Together Social Marketing Campaign for Consumers (OMB Control No. 0920-1169, Exp. 03/31/2020)—Reinstatement—National Center for HIV/AIDS, Viral Hepatitis, STD and TB Prevention (NCHHSTP), Centers for Disease Control and Prevention (CDC).

Background and Brief Description

To address the HIV epidemic in the U.S., the Department of Health and Human Services launched Ending the HIV Epidemic: A Plan for America, which is a cross-agency initiative aiming to reduce new HIV infections in the U.S. by 90% by 2030. CDC's Let's Stop HIV Together campaign (formerly known as Act Against AIDS) is part of the national Ending the HIV Epidemic initiative and includes resources aimed at reducing HIV stigma and promoting testing, prevention, and treatment across the HIV care continuum.

Within this context, CDC's Division of HIV/AIDS Prevention (DHAP) has and will continue implementing various communication initiatives to increase HIV awareness among the general public, reduce new HIV infections among disproportionately impacted populations, and improve health outcomes for people living with HIV/AIDS in the US and its territories. Specifically, the campaigns target consumers aged 18 to 64 years old and includes the following audiences: (1) General public; (2) men who have sex with men; (3) Blacks/African Americans; (4) Hispanics/Latinos; (5) Transgender individuals; (6) people who inject drugs; and (7) people with HIV (PWH).

The rounds of data collection include exploratory, message testing, concept testing, and materials testing. Information collected by DHAP will be used to assess consumers' informational needs about HIV testing, prevention, and treatment and pre-test campaign-related messages, concepts, and materials and evaluate the extent to which the communication initiatives are reaching the target audiences and providing them with trusted HIV-related information. Data collections will include in-depth interviews, focus groups, brief surveys, and intercept interviews.

The data gathered under this request will be summarized in reports prepared for CDC by its contractor, such as quarterly and annual reports and topline reports that summarize results from each data collection. It is possible that data from this project will be published in peer-reviewed manuscripts or presented at conferences; the manuscripts and conference presentations may appear on the internet. The total estimated annualized burden hours are 1,856. There is no cost to respondents other than their time to participate.

Estimated Annualized Burden Hours
Respondents | Form name | Number of respondents | Number of responses per respondent | Average burden per response (in hours) | Total burden
Individuals aged 18-64 | Study screener | 2,165 | 1 | 2/60 | 72
| Exploratory—HIV Testing In-depth Interview | 50 | 1 | 1 | 50
| Exploratory—HIV Prevention In-depth Interview | 52 | 1 | 1 | 52
| Exploratory—HIV Communication and Awareness In-depth Interview | 50 | 1 | 1 | 50
| Exploratory—HIV Prevention with Positives In-depth Interview | 50 | 1 | 1 | 50
| Message Testing In-depth Interview | 50 | 1 | 1 | 50
| Concept Testing In-depth Interview | 50 | 1 | 1 | 50
| Materials Testing In-depth Interview | 50 | 1 | 1 | 50
| Exploratory—HIV Testing Focus Group | 74 | 1 | 2 | 148
| Exploratory—HIV Prevention Focus Group | 74 | 1 | 2 | 148
| Exploratory—HIV Communication and Awareness Focus Group | 74 | 1 | 2 | 148
| Exploratory—HIV Prevention with Positives Focus Group | 74 | 1 | 2 | 148
| Concept Testing Focus Group | 68 | 1 | 2 | 136
| Message Testing Focus Group | 68 | 1 | 2 | 136
| Materials Testing Focus Group | 68 | 1 | 2 | 136
| HIV Testing Survey | 213 | 1 | 15/60 | 53
| HIV Prevention Survey | 213 | 1 | 15/60 | 53
| HIV Communication and Awareness Survey | 213 | 1 | 15/60 | 53
| HIV Prevention with Positives Survey | 213 | 1 | 15/60 | 53
| Intercept Interview | 657 | 1 | 20/60 | 220
Total |  |  |  |  | 1,856

Jeffrey M. Zirger,
Lead, Information Collection Review Office, Office of Scientific Integrity, Office of Science, Centers for Disease Control and Prevention.

[FR Doc. 2021-05114 Filed 3-11-21; 8:45 am]

BILLING CODE 4163-18-P